DEPARTMENT OF THE INTERIOR

U.S. Geological Survey

[GX16LR000F60100]

Agency Information Collection Activities: Request for Comments

AGENCY: U.S. Geological Survey (USGS), Interior.

ACTION: Notice of an extension of a currently approved information collection (1028-0060) Mine, Development, and Mineral Exploration Supplement.

SUMMARY: We (the U.S. Geological Survey) are asking the Office of Management and Budget (OMB) to approve the information collection (IC) described below. This collection consists of 1 form. As required by the Paperwork Reduction Act (PRA) of 1995, and as part of our continuing efforts to reduce paperwork and respondent burden, we invite the general public and other Federal agencies to take this opportunity to comment on this IC. This collection is scheduled to expire on June 30, 2016.

DATES: To ensure that your comments are considered, OMB must receive them on or before July 29, 2016.

ADDRESSES: Please submit your written comments on this IC directly to the Office of Management and Budget, Office of Information and Regulatory Affairs, Attention: Desk Officer for the Department of the Interior, at OIRA_SUBMISSION@omb.eop.gov (email); or (202) 395-5806 (fax). Please also forward a copy of your comments to the Information Collection Clearance Officer, U.S. Geological Survey, 807 National Center, 12201 Sunrise Valley Drive, Reston, VA 20192 (mail); 703-648-7195 (fax); or gs-info_collections@usgs.gov (email). Reference “Information Collection 1028-0060, Mine, Development, and Mineral Exploration Supplement” in all correspondence.

FOR FURTHER INFORMATION CONTACT: Shonta Osborne at 703-648-7960 (telephone); sosborne@usgs.gov (email); or by mail at U.S. Geological Survey, 985 National Center, 12201 Sunrise Valley Drive, Reston, VA 20192. You may also find information about this Information Collection Request (ICR) at www.reginfo.gov.

SUPPLEMENTARY INFORMATION:

I. Abstract

Respondents to this form supply the USGS with domestic production, exploration, and mine development data for nonfuel mineral commodities. This information will be published as an Annual Report for use by Government agencies, industry, education programs, and the general public.

II. Data

OMB Control Number: 1028-0060.

Form Number: USGS Form 9-4000-A.

Title: Mine, Development, and Mineral Exploration Supplement.

Type of Request: Extension without change of a currently approved collection.

Affected Public: Business or Other-For-Profit Institutions: U.S. nonfuel minerals producers and exploration operations.

Respondent Obligation: Participation is voluntary.

Frequency of Collection: Annually.

Estimated Number of Annual Responses: 324.

Estimated Time per Response: 45 minutes.

Annual Burden Hours: 243 hours.

Estimated Reporting and Recordkeeping “Non-Hour Cost” Burden: There are no “non-hour cost” burdens associated with this IC.

Public Disclosure Statement: The PRA (44 U.S.C. 3501, et seq.) provides that an agency may not conduct or sponsor a collection of information unless it displays a currently valid OMB control number and current expiration date.

III. Request for Comments

On February 26, 2016, a 60-day Federal Register notice (81 FR 9878) was published announcing this information collection. Public comments were solicited for 60 days ending April 26, 2016. We did not receive any public comments in response to that notice. We again invite comments as to: (a) Whether the proposed collection of information is necessary for the agency to perform its duties, including whether the information is useful; (b) the accuracy of the agency's estimate of the burden time to the proposed collection of information; (c) how to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that it will be done.

Michael J. Magyar,
Associate Director, National Minerals Information Center.

[FR Doc. 2016-15301 Filed 6-28-16; 8:45 am]

BILLING CODE 4338-11-P